DEPARTMENT OF COMMERCE

[I.D. 052303B]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northwest Region Federal Fisheries Permits.

Form Number(s): None.

OMB Approval Number: 0648-0203.

Type of Request: Regular submission.

Burden Hours: 595.

Number of Respondents: 708.

Average Hours Per Response: 20 minutes for a limited entry permit renewal or transfer; 60 minutes for an experimental fishery permit application; 60 minutes for an experimental fishery permit summary report; 10 minutes for an experimental fishery data report; and 2 minutes for an experimental fishery call-in notification prior to a fishing trip.

Needs and Uses: Two data collections dealing with Federal fishery permits affect participants in the groundfish fishery off Washington, Oregon, and California (WOC). The two data collections involve: (1) Exempted fishing; and (2) limited entry permits for commercial fishermen. Exempted (experimental) fishing permits are issued to applicants for fishing activities that would otherwise be prohibited. The information provided by applications allows NMFS to evaluate the consequences of the exempted fishing activity and weigh the benefits and costs. Permittees are required to file reports on the results of the experiments and in some cases individual vessels are required to provide minimal data reports. There is also a requirement for a call-in notification prior to a fishing trip. This information allows NOAA Fisheries to evaluate techniques used and decide if management regulations should be changed.

A Federal permit is also required to commercially catch groundfish, and permits are endorsed for one or more of three gear types (trawl, longline, and fish pot). Participation in the fishery and access to permits have been limited as a way of controlling the overall fleet harvest capacity. Limited entry permits must be renewed annually and are transferable. Permit owners must fill out renewal forms annually and must fill out transfer forms, as needed.

Affected Public: Business or other for-profit organizations.

Frequency: Annually, on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: May 21, 2003.
Gwellnar Banks,
Management Analyst, Office of the Chief Information Officer.

[FR Doc. 03-13423 Filed 5-28-03; 8:45 am]

BILLING CODE 3510-22-S